NATIONAL AERONAUTICS AND SPACE ADMINISTRATION

[Notice: (09-044)]

Notice of Centennial Challenges—2009 Power Beaming Challenge

AGENCY: National Aeronautics and Space Administration (NASA).

ACTION: Notice of Centennial Challenges—2009 Power Beaming Challenge.

SUMMARY: This notice is issued in accordance with 42 U.S.C. 2459f-1(d). This is an update to a previous notice (09-12) on the 2009 Power Beaming and Tether Challenges. The 2009 Power Beaming Challenge is now scheduled and teams that wish to compete may register. A notice on the Tether Challenge will be issued at a later time. The NASA Centennial Challenges is a program of prize contests to stimulate innovation and competition in technologies of interest and value to NASA and the nation. The 2009 Power Beaming Challenge is a prize competition designed to promote the development of new power transmission technologies with applications in energy systems, transportation and emergency operations. Significant improvements in power beaming could contribute to revolutionary advances in space transportation as well as other areas.

The Spaceward Foundation administers the Power Beaming Challenge for NASA. The prize purse is funded by NASA.

DATES: The 2009 Power Beaming Challenge will be held on July 14-16, 2009.

Location: The 2009 Power Beaming Challenge will be held at the Dryden Flight Research Center, Edwards, California.

FOR FURTHER INFORMATION CONTACT: To register for and get additional information regarding the 2009 Power Beaming Challenge including rules, team agreements, eligibility and prize criteria, visit: http://www.spaceward.org or contact Mr. Ben Shelef at the Spaceward Foundation, 725 N Shoreline Blvd., Mountain View, CA 94043, Phone: 650-965-2900. Questions and comments regarding the NASA Centennial Challenges Program should be addressed to Mr. Andrew Petro, NASA Headquarters, Suite 6J79, 300 E Street, SW., Washington, DC 20546, Phone: 202-358-0310. The Centennial Challenges Web site is http://www.ip.nasa.gov/cc.

SUPPLEMENTARY INFORMATION: The maximum prize purse available for the 2009 Power Beaming Challenge is $2,000,000. Each climber, powered by beamed energy, must climb to a height of one kilometer traveling at a minimum speed. The teams with the highest score (the product of average velocity and payload mass normalized by the climber mass) will win the competition.

In the case of individuals, prizes can only be awarded to U.S. citizens or permanent residents and in the case of corporations or other entities, prizes can only be awarded to those that are incorporated in and maintain a primary place of business in the United States.

Dated: May 20, 2009.
Douglas A. Comstock,
Director, Innovative Partnerships Program.

[FR Doc. E9-12315 Filed 5-27-09; 8:45 am]

BILLING CODE P